DEPARTMENT OF ENERGY

Federal Energy Regulatory Commission

[Docket Nos. EG01-9-000, EG01-40-000 and EG01-41-000]

Mexican Business Trust No. 111076-2, Et Al.; Notice of Amendment to Application for Commission Determination of Exempt Wholesale Generator Status

December 8, 2000.

Take notice that on November 27, 2000, Mexican Business Trust No. 111076-2 (the Trust); Banco Nacional de México, S.A., Institución de Banca Múltiple, División Fiduciaria, Grupo Financiero Banamex-Accival (the Trustee under Mexican Business Trust No. 111076-2); and Termoeléctrica Peñoles, S. de R.L. de C.V. (TEP and together with the Trust and Trustee, Applicants), filed with the Commission a request for additional docket number designations in connection with the Applicants' application for a determination of exempt wholesale generator status, filed with the Commission in EG01-9-000, on October 20, 2000.

Any person desiring to be heard concerning the amended application for exempt wholesale generator status should file a motion to intervene or comments with the Federal Energy Regulatory Commission, 888 First Street, NE., Washington, DC 20426, in accordance with Rules 211 and 214 of the Commission's Rules of Practice and Procedure (18 CFR 385.211 and 385.214). The Commission will limit its consideration of comments to those that concern the adequacy or accuracy of the amended application. All such motions and comments should be filed on or before December 14, 2000, and must be served on the applicant. Any person wishing to become a party must file a motion to intervene. Copies of this filing are on file with the Commission and are available for public inspection or on the Internet at http://www.ferc.fed.us/online/rims.htm (please call (202) 208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-31853 Filed 12-13-00; 8:45 am]

BILLING CODE 6717-01-M